SOCIAL SECURITY ADMINISTRATION

Privacy Act of 1974, as Amended; Computer Matching Program (Social Security Administration (SSA)/Department of Housing and Urban Development (HUD))—Match Number 1061

AGENCY: Social Security Administration.

ACTION: Notice of computer matching program.

SUMMARY: In accordance with the provisions of the Privacy Act, as amended, this notice announces a computer matching program that SSA plans to conduct with HUD.

DATES: HUD has filed a report of the subject matching program with the Committee on Governmental Affairs of the Senate, the Committee on Government Reform of the House of Representatives, and the Office of Information and Regulatory Affairs, Office of Management and Budget (OMB). The matching program will be effective as indicated below.

ADDRESSES: Interested parties may comment on this notice by either telefax to (410) 966-2935 or writing to the Acting Associate Commissioner, Office of Program Support, 2-Q-16 Operations Building, 6401 Security Boulevard, Baltimore, MD 21235-6401. All comments received will be available for public inspection at this address.

FOR FURTHER INFORMATION CONTACT: The Acting Associate Commissioner for Program Support as shown above.

SUPPLEMENTARY INFORMATION:

A. General

The Computer Matching and Privacy Protection Act of 1988 (Public Law (Pub. L.) 100-503), amended the Privacy Act (5 U.S.C. 552a) by describing the manner in which computer matching involving Federal agencies could be performed and adding certain protections for individuals applying for and receiving Federal benefits. Section 7201 of the Omnibus Budget Reconciliation Act of 1990 (Pub. L. 101-508) further amended the Privacy Act regarding protections for such individuals.

The Privacy Act, as amended, regulates the use of computer matching by Federal agencies when records in a system of records are matched with other Federal, State, or local government records. It requires Federal agencies involved in computer matching programs to:

(1) Negotiate written agreements with the other agency or agencies participating in the matching programs;

(2) Obtain the approval of the matching agreement by the Data Integrity Boards (DIB) of the participating Federal agencies;

(3) Furnish detailed reports about matching programs to Congress and OMB;

(4) Notify applicants and beneficiaries that their records are subject to matching; and

(5) Verify match findings before reducing, suspending, terminating, or denying an individual's benefits or payments.

B. SSA Computer Matches Subject to the Privacy Act

We have taken action to ensure that all of SSA's computer matching programs comply with the requirements of the Privacy Act, as amended.

Dated: July 2, 2001.
Glenna Donnelly,
Acting Deputy Commissioner for Disability and Income Security Programs.

Notice of Computer Matching Program, Social Security Administration (SSA) With the Department of Housing and Urban Development (HUD)

A. Participating Agencies

SSA and HUD.

B. Purpose of the Matching Program

The purpose of this matching program is to establish conditions and procedures for the computer matching of HUD's tenant data to SSA's title II (Social Security), title XVI (supplemental security income), and title VIII (special veterans benefits) data and to wage, self-employment and retirement income data. The matching program will provide information confirming the accuracy of tenant-reported income. Administrators of HUD programs rely upon the accuracy of tenant-reported income to determine applicants' and participants' eligibility for, and level of, rental assistance benefits. Underreported or overreported tenant income affects tenant eligibility, level of housing benefits, and HUD subsidies. The matching program will provide indicators of potential underreported and overreported tenant income that will require additional verification to identify inappropriate (excess or insufficient) rental assistance, and perhaps administrative or legal actions.

C. Authority for Conducting the Matching Program

Section 1106 of the Social Security Act (42 U.S.C. 1306); 42 U.S.C. 3544(b) and (c)(2)(A)(ii); and 26 U.S.C. 6103(1)(7)(D)(ix).

D. Categories of Records and Individuals Covered by the Matching Program

HUD will provide information to SSA from its system of records entitled Tenant Housing Assistance and Contract Verification Data. This system of records includes two automated systems know as the multifamily Tenant Characteristics System and the Tenant Rental Assistance Certification System. Each record on the HUD file will be matched to SSA's Master Files of SSN Holders and SSN Applications, SSA's Earnings Recording and Self-Employment Income System, SSA's Master Beneficiary Record; and SSA's Supplemental Security Income and Special Veterans Benefits Record for the purposes described above in Section B.

E. Inclusive Dates of the Matching Program

The matching program shall become effective upon the signing of the agreement by both parties to the agreement and approval of the agreement by the Data Integrity Boards of the respective agencies, but no sooner than 40 days after notice of this matching program is sent to Congress and the Office of Management and Budget or 30 days after publication of this notice in the Federal Register, whichever is later. The matching program will continue for 18 months from the effective date and may be extended for an additional 12 months thereafter, if certain conditions are met.

[FR Doc. 01-17106 Filed 7-11-01; 8:45 am]

BILLING CODE 4191-02-U